DEPARTMENT OF JUSTICE

Notice of Lodging of Proposed Consent Decree Under the Clean Air Act

On October 27, 2017, the Department of Justice lodged a proposed Consent Decree with the United States District Court for the Northern District of Ohio in the lawsuit entitled United States and the State of Ohio v. United Rolls Inc., Civil Action No. 5:17-cv-02278.

The United States and the State of Ohio filed a Complaint seeking civil penalties and injunctive relief from Defendant United Rolls Inc. for alleged violations of the Clean Air Act, 42 U.S.C. 7401-7671q, and corresponding provisions of Ohio's air pollution control laws at United Rolls' iron foundry facility in Canton, Ohio. The Complaint alleges violations of recordkeeping and reporting requirements, as well as failure to meet requirements for the control of particulate matter emissions from United Rolls' facility. The proposed Consent Decree would require United Rolls to perform emissions testing, upgrade an air pollution control monitoring system, and take other steps to control air pollutant emissions from its Canton facility. United Rolls also would pay a total of $310,000 in civil penalties (with $186,000 payable to the United States and $124,000 payable to the State).

The publication of this notice opens a period for public comment on the proposed Consent Decree. Comments should be addressed to the Acting Assistant Attorney General, Environment and Natural Resources Division, and should refer to United States and the State of Ohio v. United Rolls Inc., D.J. Ref. No. 90-5-2-1-10704. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department Web site: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $16.25 (25 cents per page reproduction cost) payable to the United States Treasury.

Randall M. Stone,
Acting Assistant Section Chief, Environmental Enforcement Section, Environment and Natural Resources Division.

[FR Doc. 2017-23915 Filed 11-2-17; 8:45 am]

BILLING CODE 4410-15-P